DEPARTMENT OF ENERGY

Federal Energy Regulatory Commission

[Project No. 13301-002-WY]

Town of Afton, Notice of Availability of Environmental Assessment

October 9, 2009.

In accordance with the National Environmental Policy Act of 1969 and the Federal Energy Regulatory Commission's regulations, 18 CFR Part 380 (Order No. 486, 52 FR 47,897), the Office of Energy Projects has reviewed the application for a minor license for the Culinary Water System Hydroelectric Project, and has prepared an Environmental Assessment (EA). The proposed project would be built on the Culinary Water Supply System, in the Town of Afton, Lincoln County, Wyoming. The project would occupy approximately 8 acres of U.S. Forest Service land in the Bridger-Teton National Forest.

The EA contains the staff's analysis of the potential environmental impacts of the project and concludes that licensing the project would not constitute a major Federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/esubscribenow.htm to be notified via e-mail of new filings and issuances related to this or other pending projects. For assistance, contact FERC Online Support at FERCOnlineSupport@ferc.gov or toll-free at 1-866-208-3676, or for TTY, (202) 502-8659.

Please contact Ryan Hansen by telephone at (202) 502-8074 or by e-mail at ryan.hansen@ferc.gov if you have any questions.

Kimberly D. Bose,
Secretary.

[FR Doc. E9-25019 Filed 10-16-09; 8:45 am]

BILLING CODE 6717-01-P